DEPARTMENT OF ENERGY

Federal Energy Regulatory Commission

[Docket No. CP20-21-000]

Port Arthur Pipeline, LLC; Notice of Schedule for Environmental Review of the Louisiana Connector Amendment Project

On December 9, 2019, Port Arthur Pipeline, LLC filed an application in Docket No. CP20-21-000 requesting a Certificate of Public Convenience and Necessity pursuant to Section 7(c) of the Natural Gas Act to construct and operate certain natural gas pipeline facilities. The proposed project is known as the Port Arthur Louisiana Connector Amendment Project (Project), and consists of relocating a compressor station site previously approved in the Louisiana Connector Project (Docket No. CP18-7-000) in Allen Parish, Louisiana. Port Arthur Pipeline, LLC, currently proposes to construct the compressor station, along with associated interconnect and metering facilities, in Beauregard Parish, Louisiana. The Project would also increase the design capacity of the compressor station from 89,900 horsepower (hp) to 93,880 hp, and increase the capacity of the previously certificated Louisiana Connector Project from 1.98 billion standard cubic feet per day of natural gas to 2.05 billion standard cubic feet per day of natural gas deliverable to the Port Arthur Liquefaction Project, previously approved by the Commission in Docket No. CP17-20-000.

On December 20, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 8, 2020

90-day Federal Authorization Decision Deadline—August 6, 2020

If a schedule change becomes necessary, additional notice will be provided so that the relevant agencies are kept informed of the Project's progress.

Project Description

As part of the Project, Port Arthur Pipeline, LLC would:

• Relocate the previously authorized compressor station consisting of four Solar Titan 130E gas turbine driven compressors in Allen Parish from milepost (MP) 96.1 to MP 72.3 in Beauregard Parish, and increase horsepower from 89,900 hp to 93,880 hp;

• relocate an interconnect with Texas Eastern Transmission Company from MP 96.1 to MP 72.3;

• relocate pig launcher/receiver facilities from MP 96.1 to MP 72.3;

• construct three new pipeline interconnections with Cameron Intrastate Pipeline, Transcontinental Gas Pipeline, and Louisiana Storage at MP 72.3; and

• construct one new mainline block valve at MP 72.3, resulting in a total of 10 mainline valves on the Louisiana Connector Project.

Background

On February 5, 2020, the Commission issued a Notice of Intent to Prepare an Environmental Assessment for the Proposed Louisiana Connector Amendment Project, Request for Comments on Environmental Issues, and Notice of Public Scoping Session (NOI). The NOI was sent to affected landowners; federal, state, and local government agencies; elected officials; environmental and public interest groups; Native American tribes; other interested parties; and local libraries and newspapers. In response to the NOI, the Commission received comments from Louisiana Department of Wildlife and Fisheries and eight landowners. The primary issues raised by the commentors are alternative compressor station locations, noise, air quality, visual impacts, and impacts on property values. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-21), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 20, 2020.
Kimberly D. Bose,
Secretary.

[FR Doc. 2020-06329 Filed 3-25-20; 8:45 am]

BILLING CODE 6717-01-P